DEPARTMENT OF THE INTERIOR

Bureau of Land Management

[LLAKA01300-14300000.ER0000; AA-091143]

Notice of Realty Action: Recreation and Public Purposes Lease, Anchorage, AL

AGENCY: Bureau of Land Management, DOI.

ACTION: Notice of realty action.

SUMMARY: This Notice of Realty Action is being issued in response to a Recreation and Public Purposes (R&PP) lease application received from the State of Alaska, Department of Fish and Game (ADF&G), Division of Sport Fisheries. ADF&G is proposing to construct a new fish hatchery on approximately 15 acres of public lands, in Anchorage, Alaska.

DATES: Interested parties may submit comments regarding the ADF&G R&PP fish hatchery lease application until April 17, 2009.

ADDRESSES: Documents pertaining to this proposal may be obtained from: Bureau of Land Management, Anchorage Field Office, 4700 BLM Road, Anchorage, Alaska 99507.

FOR FURTHER INFORMATION CONTACT: Realty Specialist Harrison Griffin by phone at (907) 267-1246 or (800) 478-1263, or by e-mail at hgriffin@blm.gov.

SUPPLEMENTARY INFORMATION: ADF&G is currently authorized to operate and maintain a fish hatchery and associated facilities within the proposed lease area. The new lease would replace the current R&PP lease AA-9596, FLPMA right-of-way AA-85927, and encompass approximately 9 acres of new development. The Bureau of Land Management (BLM) will review ADF&G's application prior to considering a 25-year R&PP lease for the hatchery. The Department of Fish and Game would ultimately be responsible for the maintenance and operation of the proposed hatchery for the term of the lease.

In response to the Recreation and Public Purposes (R&PP) lease application submitted by the Alaska Department of Fish and Game (ADF&G), Sport Fisheries, to the BLM Anchorage Field Office on February 2, 2009, the BLM has examined and found the requested parcel suitable for classification for lease, but not conveyance, under the provisions of the R&PP Act, as amended (43 U.S.C. 869 et seq.), 43 CFR 2912 and Public Land Order (PLO) 2676. This parcel of land lies within the Municipality of Anchorage, on Elmendorf Air Force Base along Ship Creek, and described below:

A parcel of land located within SW ¼, SW ¼ section 9, T. 13 N., R. 3 W., Seward Meridian, Anchorage Recording District, Municipality of Anchorage, Third Judicial District, State of Alaska, containing 14.76 acres, more or less.

An Environmental Assessment (EA) has been prepared outlining ADF&G's plan of development, subsequent monitoring, and daily operation of the proposed facility. This plan may be viewed at the BLM Anchorage Field Office. As described within the EA, the proposed hatchery would be constructed adjacent to and include the existing facility, currently operating under a valid and existing R&PP lease and right-of-way. BLM has reviewed the EA, found it to be legally sufficient, and issued a Finding of No Significant Impact (FONSI) on February 11, 2009.

Comments submitted to the Anchorage Field Office regarding ADF&G's application must include a reference to this notice. The BLM will make a final determination after completing a thorough review of the application. The lands are not required for any federal purpose. The lease is in conformance with the BLM Ring of Fire Resource Management Plan (RMP) dated March 21, 2008. The RMP has been reviewed and it has been determined the proposed action is in conformance with the land use plan decision I.2.d.

The lease will be subject to the provisions of the R&PP Act, terms of the military withdrawal outlined in PLO 2676, 43 CFR 2912, all valid and existing rights, and any applicable regulations set forth by the Secretary of the Interior. On April 17, 2009, the above described land will be segregated from all other forms of appropriation under the public land laws. The lands within this R&PP lease will not be subject to conveyance at any time. However, the lease term may be renewed upon review and approval.

Classification Comments: Interested parties may submit comments involving the suitability of the land for R&PP sites. Comments on the classification are restricted to whether the land is physically suited for the proposal, whether the use will maximize the future use or uses of the land, whether the use is consistent with local planning and zoning, or if the use is consistent with State and Federal programs.

Application Comments: Comments, including names and addresses of respondents, will be available for public review. Interested parties may submit comments regarding the specific use proposed in the applications and plans of development, whether the BLM followed proper administrative procedures in reaching the decision to lease under the R&PP Act or any other factor not directly related to the suitability of the lands for public school sites. Facsimiles, telephone calls, and electronic mails are unacceptable means of notification. Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM Alaska State Director who may sustain, vacate, or modify this realty action. In the absence of any adverse comments, the classification will become effective on April 17, 2009. The land will not be available for lease until after the classification becomes effective.

(Authority: 43 CFR 2741.5)

Dated: February 17, 2009.
Teresa McPherson,
Acting Anchorage Field Manager.

[FR Doc. E9-4488 Filed 3-2-09; 8:45 am]

BILLING CODE 4310-JA-P